DEPARTMENT OF TRANSPORTATION

Federal Aviation Administration

14 CFR Part 95

[Docket No. 31417; Amdt. No. 564]

IFR Altitudes; Miscellaneous Amendments

AGENCY: Federal Aviation Administration (FAA), DOT.

ACTION: Final rule.

SUMMARY: This document adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: 0901 UTC, effective March 24, 2022.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29 Room 104, Oklahoma City, OK 73125. Telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on February 18, 2022.
Thomas J. Nichols,
Aviation Safety, Flight Standards Service, Manager, Standards Section, Flight Procedures & Airspace Group, Flight Technologies and Procedures Division.

Adoption of the Amendment

Accordingly, pursuant to the authority delegated to me by the Administrator, part 95 of the Federal Aviation Regulations (14 CFR part 95) is amended as follows effective at 0901 UTC, March 24, 2022.

PART 95—IFR ALTITUDES

1. The authority citation for part 95 continues to read as follows:

Authority: 49 U.S.C. 106(g), 40103, 40113, and 14 CFR 11.49(b)(2).

2. Part 95 is amended to read as follows:

Revisions to IFR Altitudes & Changeover Point
[Amendment 564 Effective Date, March 24, 2022]
From | To | MEA | MAA
§ 95.3000 Low Altitude RNAV Routes
§ 95.3302 RNAV Route T302
Is Amended by Adding
LLUKY, NE WP | ROKKK, IA WP | 4400 | 17500
ROKKK, IA WP | WATERLOO, IA VOR/DME | 3000 | 17500
WATERLOO, IA VOR/DME | DUBUQUE, IA VORTAC | 2900 | 17500
DUBUQUE, IA VORTAC | JOOLZ, IL WP | * 2900 | 17500
* 2500-MOCA
JOOLZ, IL WP | GRIFT, IL WP | 3000 | 17500
§ 95.3411 RNAV Route T411
Is Added to Read
RAZORBACK, AR VORTAC | DROOP, MO WP | 3200 | 17500
DROOP, MO WP | BUTLER, MO VORTAC | 2800 | 17500
BUTLER, MO VORTAC | TOPEKA, KS VORTAC | 3100 | 17500
TOPEKA, KS VORTAC | LINCOLN, NE VORTAC | 3200 | 17500
§ 95.3413 RNAV Route T413
Is Added to Read
RAZORBACK, AR VORTAC | DROOP, MO WP | 3200 | 17500
DROOP, MO WP | EMPORIA, KS VORTAC | 3100 | 17500
EMPORIA, KS VORTAC | SALINA, KS VORTAC | 3300 | 17500
SALINA, KS VORTAC | GRAND ISLAND, NE VOR/DME | 3900 | 17500
GRAND ISLAND, NE VOR/DME | ISTIQ, NE WP | 3800 | 17500
ISTIQ, NE WP | LLUKY, NE WP | 4000 | 17500
LLUKY, NE WP | MMINI, NE WP | 4000 | 17500
MMINI, NE WP | JMBAG, SD WP | 4300 | 17500
JMBAG, SD WP | PIERRE, SD VORTAC | 4200 | 17500

From | To | MEA
§ 95.6001 Victor Routes-U.S.
§ 95.6013 VOR Federal Airway V13 Is Amended To Delete
RAZORBACK, AR VORTAC | * PINNE, MO WP | 3000
* 4500-MRA
PINNE, MO WP | NEOSHO, MO VOR/DME | 3000
NEOSHO, MO VOR/DME | NASHE, MO FIX | 2900
NASHE, MO FIX | DIZZI, MO WP | 2700
DIZZI, MO WP | BUTLER, MO VORTAC | * 2600
* 2000-MOCA
§ 95.6014 VOR Federal Airway V14 Is Amended To Delete
TULSA, OK VORTAC | ADAIR, OK FIX | 2500
ADAIR, OK FIX | NEOSHO, MO VOR/DME | 3000
NEOSHO, MO VOR/DME | SPRINGFIELD, MO VORTAC | 3000
§ 95.6015 VOR Federal Airway V15 Is Amended To Delete
OKMULGEE, OK VOR/DME | MALTS, OK FIX | 3500
MALTS, OK FIX | * PRYOR, OK FIX | ** 2900
* 2900-MRA
** 2200-MOCA
PRYOR, OK FIX | NEOSHO, MO VOR/DME | 3000
§ 95.6027 VOR Federal Airway V27 Is Amended To Read in Part
GAVIOTA, CA VORTAC | * ORCUT, CA FIX | 6000
* 6000-MCA | ORCUT, CA FIX, SE BND
§ 95.6037 VOR Federal Airway V37 Is Amended To Delete
ELLWOOD CITY, PA VOR/DME | ERIE, PA TACAN | 3000
§ 95.6043 VOR Federal Airway V43 Is Amended To Delete
YOUNGSTOWN, OH VORTAC | ERIE, PA TACAN | * 5000
* 3000-GNSS MEA
§ 95.6270 VOR Federal Airway V270 Is Amended To Delete
ERIE, PA VORTAC | JAMESTOWN, NY VOR/DME | 4000
§ 95.6307 VOR Federal Airway V307 Is Amended To Delete
HARRISON, AR VOR/DME | NEOSHO, MO VOR/DME | * 3400
* 2800-MOCA
NEOSHO, MO VOR/DME | OSWEGO, KS VOR/DME | 3000
§ 95.6506 VOR Federal Airway V506 Is Amended To Delete
TULSA, OK VORTAC | VINTA, OK FIX | 2700
VINTA, OK FIX | NEOSHO, MO VOR/DME | 3000
NEOSHO, MO VOR/DME | BILIE, MO FIX | 3000
BILIE, MO FIX | SPRINGFIELD, MO VORTAC | 3000

From | To | MEA | MAA
§ 95.7001 Jet Routes
§ 95.7181 Jet Route J181
Is Amended To Delete
OKMULGEE, OK VOR/DME | NEOSHO, MO VOR/DME | 18000 | 45000
NEOSHO, MO VOR/DME | HALLSVILLE, MO VORTAC | 18000 | 45000

Airway Segment: From | Airway Segment: To | Changeover Points: Distance | Changeover Points: From
§ 95.8005 Jet Route Changeover Points
J181 Is Amended To Delete Changeover Point
OKMULGEE, OK VOR/DME | NEOSHO, MO VOR/DME | 58 | OKMULGEE.
NEOSHO, MO VOR/DME | HALLSVILLE, MO VORTAC | 130 | NEOSHO.

[FR Doc. 2022-04022 Filed 2-28-22; 8:45 a.m.]

BILLING CODE 4910-13-P